DEPARTMENT OF THE INTERIOR

Bureau of Land Management

[ID-080-1220-PA]

Upper Columbia-Salmon Clearwater district, Idaho; Restriction

AGENCY: Bureau of Land Management, Upper Columbia-Salmon Clearwater District, Idaho, Interior.

ACTION: Notice of restriction order for BLM Lands in Wallace L. Forest Conservation Area, Kootenai County, Idaho, Order No. ID-060-21

SUMMARY: By order, the following restriction applies to the Wallace L. Forest Conservation Area, described as all public land administered by the Bureau of Land Management (BLM) located in the following: Section 31, T.50N., R.2W.; Section 1, T.49N., R.3W.; Section 6, T.49N., R.2W.; Sections 26 and 35, T.50N., R.3W. Boise Meridian. Maps depicting the restricted area are available for public inspection at the BLM, Coeur d'Alene Field Office, 1808 North Third St., Coeur d'Alene, Idaho, 83814.

Cutting of personal use firewood is prohibited.

The authority for establishing these restrictions is Title 43, Code of Federal Regulations, 8364.1

These restrictions become effective on April 1, 2000 and shall remain in effect until revoked and/or replaced with supplemental rules.

These restrictions do not apply to:

Any person issued a BLM timber sale contract for the removal of forest products from the above-described area.

This restriction is necessary to protect pubic land from habitat degradation due to illegal firewood cutting and off-road vehicle.

Violation of this order is punishable by a fine not to exceed $1,000 and/or imprisonment not to exceed 12 months.

Dated: February 11, 2000
Ted Graf,
Acting District Manager.

[FR Doc. 00-4397 Filed 2-24-00; 8:45 am]

BILLING CODE 4310-66-M